DEPARTMENT OF THE INTERIOR

National Park Service

Information Quality Guidelines pursuant to Section 515 of the Treasury and General Government Appropriations Act for Fiscal Year 2001

AGENCY: Department of Interior, National Park Service.

ACTION: Notice of availability of Information Quality Guidelines.

SUMMARY: The National Park Service is announcing the availability of Information Quality Guidelines in order to comply with the guidelines issued by the Office of Management and Budget in the Federal Register, Vol., 2, No. 67, dated January 2, 2002, and reissued February 2, 2002, Vol., 67, No. 36, for implementing Section 515(a) of the Treasury and General Government Appropriations Act for Fiscal Year 2001 (Pub. L. 106-554; HR 5658).

FOR FURTHER INFORMATION CONTACT: Persons interested in reviewing the final Information Quality Guidelines are encouraged to access the guidelines at website http://data2.itc.nps.gov/npspolicy/Dorders.cfm Individuals are also encouraged to contact the National Park Service, Washington Administrative Program Center, (Attn: Deke Cripe) 1849 C Street, NW, Mail Stop 2605, Washington, DC 20240: Phone 202-354-1927.

SUPPLEMENTARY INFORMATION: The National Park Service disseminates a wide variety of information to the public, including organizational information, natural and cultural resource information, and budget information. Organizational information includes general descriptive information about the NPS and its component parks and offices. Examples include the parks' history, functions, and legislative authorities; organizational charts, the offices within the parks and their functions; the parks' strategic and performance plans and their budgetary information; and information pertaining to the parks' history, natural and cultural resources and administrative processes. This document is the basis for National Park Service policy to assure the quality of the information it disseminates.

Richard G. Cripe,
Manager, Washington Administrative Program Center.

[FR Doc. 02-27879 Filed 10-31-02; 8:45 am]

BILLING CODE 4310-70-P